SECURITIES AND EXCHANGE COMMISSION

[Release No. 34-53652A; File No. SR-Amex-2005-100]

Self-Regulatory Organizations; American Stock Exchange LLC; Order Approving Proposed Rule Change and Amendments No. 1 and 2 Thereto and Notice of Filing and Order Granting Accelerated Approval to Amendment No. 4 Relating to the Establishment of a New Class of Registered Options Trader Called a Remote Registered Options Trader

May 11, 2006.

Correction

FR Doc. E6-5918, beginning on page 20422 in the issue of April 20, 2006,¹ incorrectly stated the Exchange's proposal to modify Amex Rule 958—ANTE, which governs options transactions of Registered Options Traders, Supplemental Registered Options Traders, and Remote Registered Options Traders. On page 20423, in the 3rd column, the incorrect portion of the order stated as follows:

¹ See Securities Exchange Act Release No. 53652 (April 13, 2006), 71 FR 20422.

“The proposed changes to Amex Rule 958—ANTE (f) provide that no member, while acting as an RROT, if also registered as a registered equity trader or registered equity market-maker, would be required to execute a proprietary Exchange option transaction on a Paired Security if during the preceding 60 minutes he has been in the Designated Stock Area where the related security is traded.”

The corrected sentence reads as follows:

“The proposed changes to 958—ANTE (f) provide that no member, while acting as an RROT, if also registered as a registered equity trader or registered equity market-maker, would be permitted to execute a proprietary Exchange option transaction on a Paired Security if during the preceding 60 minutes he has been in the Designated Stock Area where the related security is traded.”

For the Commission, by the Division of Market Regulation, pursuant to delegated authority.²
² 17 CFR 200.30-3(a)(12).
J. Lynn Taylor,
Assistant Secretary.

[FR Doc. E6-7467 Filed 5-16-06; 8:45 am]

BILLING CODE 8010-01-P